DEPARTMENT OF HEALTH AND HUMAN SERVICES

Office of the Secretary

[Document Identifier: OS-4040-New]

Notice of Proposed Requirement To Establish Government-wide Standard Data Elements for Use by All Federal Grant Making Agencies—SF-424 Short Organizational and Supplemental Data Sets and Forms

AGENCY: Grants.gov Program Management Office.

In compliance with the requirement of the Paperwork Reduction Act of 1995, the Grants.gov Program Management Office, one of the 26 E-Government initiatives, managed by the Department of Health and Human Services is publishing the following summary of proposed collection for public comment. Interested individuals are invited to send comments regarding any aspect of this collection of information.

Type of Information Collection Request: Emergency.

Title of Information Collection Request: SF-424 Short Organizational (Short) and SF-424.

Supplemental forms: Key Contacts and Project Abstract.

Form/OMB No.: OS-4040-New.

Background: The discretionary SF-424, Application for Federal Assistance was established as the government-wide standard core data set and form for discretionary grant applications in July 31, 2003 [Federal Register Notice 68 FR 44974]. The SF-424 consolidates grant application related data and forms used by Federal grant-making agencies and organizations for their discretionary grant programs and replaces numerous agency-specific forms. The effect has been to reduce the administrative burden to the Federal grants community.

During the identification of the core SF-424 data set, it was determined, that in some instances, there were sufficient commonalities of data requirements across agencies to warrant a separate government-wide SF-424 data set and form. Four “market segment” SF-424 data sets and forms, in addition to the standard core data set, were subsequently identified; each tailored for a specific segment of the applicant community; and each developed for the purpose of reducing the administrative burden on the applicant community. The market segment SF-424 data sets and forms provide agencies with an alternative to the SF-424 core data set and form.

The research and related market segment SF-424 (SF-424 R&R) data set and form was deployed in November 2004 for use the by grant-making agencies with a research mission or that conduct research-related activities. The SF-424 Mandatory data set and form (SF-424 M) was deployed in February 2005 for use by the agencies with mandatory grant programs, including Formula and Block grants. Two additional market segments SF-424 data set and forms, the SF-424 Individual (SF-424 I) and the SF-424 Organizational Short (SF-424 short), will be deployed later this year. Both the SF-424 (I) and the SF-424 (short) will provide a further streamlined version of the SF-424 core data set and form for specific applicant communities. The SF-424 (I) will provide a streamlined data set and form for applicants that are individuals, rather than organizations. The SF-424 (short) will provide a streamlined form for those grant programs not required to collect certain information on the SF-424 core data set and form.

Use: Use of the standard data elements was implemented through the electronic grants application process of Grants.gov, which was deployed in October 2003 and is part of the implementation of the Federal Financial Assistance Management Improvement Act of 1999 (Pub. L. 106-107). Federal agencies and applicants under discretionary grant programs now use the discretionary SF-424 core data set and definitions for paper and electronic applications.

Comments received on the discretionary SF-424 core data set and form during the public comment period included the need for a further streamlined version of the SF-424 for use by the grant programs not required to collect certain applicant information as required on the SF-424 core data set and form. In response to this need, the SF-424 Short Organizational (SF-424 (short)) form is proposed to support the streamlined application requirements of some grant programs and to reduce the administrative burden placed on this applicant community. The SF-424 (short) provides agencies with an alternative to the SF-424 core data set and form. The SF-424 (short) can be used by grants programs not required to collect certain information on the SF-424 core data set and form.

Also in response to comments received from the public, two new SF-424 supplemental data sets and forms are proposed. The first, the Key Contacts data set and form, is proposed in response to the request that the SF-424 form support collection of additional key contact or point of contact information. The Key Contacts form is an optional form that the agencies may include in the application package for this purpose.

The second supplemental form, the Project Abstract form, is proposed in response to the public's request that the SF-424 support submission of project abstract information. This optional form provides the mechanism for the applicant to attach a file that contains an abstract of the project, in a format specified by the agency.

Federal agencies will not be required to use the SF-424 (short) or the supplemental forms, nor be required to collect all of the information included in the proposed data sets. The agency will identify the data that must be provided by applicants through instructions that will accompany the application package.

An estimate of the total burden was submitted during the first information collection package for the discretionary SF-424 on April 8, 2003, Federal Register notice [68 FR 17090]. At that time, an estimated 100,000 total number of responses with an estimated average time per response of 20 minutes per form were calculated. The collection information for the SF-424 (short) and supplemental forms is estimated similarly, subject to change based on comments received during this public comment period.

Frequency: Recordkeeping, Reporting, on occasion.

Affected: Federal, State, Local and Tribal governments; farms; non-profit institutions, and other for-profit.

Total Annual Respondents: 100,000.

Total Annual Responses: 100,000.

Average Burden Per Response: 20 minutes.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 30-days directly to the Desk Officer at the address below:

OMB Desk Officer: Katherine Astrich, OMB Human Resources and Housing Branch, Attention: (OMB#OS-4040-New), New Executive Office Building, Room 10235, Washington DC 20201.

Dated: March 15, 2005.
Robert E. Polson,
Office of the Secretary, Paperwork Reduction Act Reports Clearance Officer.

[FR Doc. 05-5788 Filed 3-23-05; 8:45 am]

BILLING CODE 4168-17-P